DEPARTMENT OF ENERGY

Federal Energy Regulatory Commission

Combined Notice of Filings #1

Take notice that the Commission received the following exempt wholesale generator filings:

Docket Numbers: EG20-189-000.

Applicants: Orbit Bloom Energy, LLC.

Description: Notice of Self-Certification of Exempt Wholesale Generator Status of Orbit Bloom Energy, LLC.

Filed Date: 6/16/20.

Accession Number: 20200616-5130.

Comments Due: 5 p.m. ET 7/7/20.

Docket Numbers: EG20-190-000.

Applicants: Antelope Expansion 3A, LLC.

Description: Self-Certification of Antelope Expansion 3A, LLC.

Filed Date: 6/16/20.

Accession Number: 20200616-5142.

Comments Due: 5 p.m. ET 7/7/20.

Docket Numbers: EG20-191-000.

Applicants: Antelope Expansion 3B, LLC.

Description: Self-Certification of EG of Antelope Expansion 3B, LLC.

Filed Date: 6/16/20.

Accession Number: 20200616-5146.

Comments Due: 5 p.m. ET 7/7/20.

Take notice that the Commission received the following electric rate filings:

Docket Numbers: ER19-1073-001; ER11-3942-019; ER13-1139-018; ER13-1346-010; ER14-2630-001; ER19-1074-001; ER19-1075-001; ER19-1076-001; ER19-529-001.

Applicants: Alta Wind VIII, LLC, Brookfield Energy Marketing Inc., Brookfield Energy Marketing LP, Brookfield Renewable Energy Marketing US, Brookfield Renewable Trading and Marketi, Mesa Wind Power Corporation, Windstar Energy LLC, Imperial Valley Solar 1, LLC, Regulus Solar, LLC.

Description: Supplement to June 28, 2019 Updated Market Power Analysis for the Southwest Region of the Brookfield Companies and the TerraForm Companies.

Filed Date: 5/29/20.

Accession Number: 20200529-5526.

Comments Due: 5 p.m. ET 7/7/20.

Docket Numbers: ER19-1132-001.

Applicants: Midcontinent Independent System Operator, Inc.

Description: Midcontinent Independent System Operator, Inc. submits tariff filing per 35.19a(b): Refund Report_NRG Cottonwood Tennant to be effective N/A.

Filed Date: 6/16/20.

Accession Number: 20200616-5035.

Comments Due: 5 p.m. ET 7/7/20.

Docket Numbers: ER20-1313-000.

Applicants: GridLiance High Plains LLC.

Description: Motion to Intervene and Consolidate and Formal Challenge of Xcel Energy Services Inc., on behalf of Southwestern Public Service Company to March 16, 2020 Annual Informational Filing by GridLiance High Plains LLC.

Filed Date: 4/15/20.

Accession Number: 20200415-5211.

Comments Due: 5 p.m. ET 7/7/20.

Docket Numbers: ER20-1395-000.

Applicants: ND OTM LLC.

Description: Second Supplement to March 26, 2020 ND OTM LLC tariff filing.

Filed Date: 6/15/20.

Accession Number: 20200615-5367.

Comments Due: 5 p.m. ET 7/6/20.

Docket Numbers: ER20-1600-000.

Applicants: Cubico Huntley Lessee, LLC.

Description: Report Filing: Refund Report to be effective N/A.

Filed Date: 6/15/20.

Accession Number: 20200615-5190.

Comments Due: 5 p.m. ET 7/6/20.

Docket Numbers: ER20-1601-000.

Applicants: Huntley Solar, LLC.

Description: Report Filing: Refund Report to be effective N/A.

Filed Date: 6/15/20.

Accession Number: 20200615-5191.

Comments Due: 5 p.m. ET 7/6/20.

Docket Numbers: ER20-2059-000.

Applicants: DTE Garden Wind Farm, LLC.

Description: Baseline eTariff Filing: DTE Garden Wind Farm LLC SFA Filing to be effective 8/1/2020.

Filed Date: 6/15/20.

Accession Number: 20200615-5257.

Comments Due: 5 p.m. ET 7/6/20.

Docket Numbers: ER20-2060-000.

Applicants: MPH Rockaway Peakers, LLC.

Description: Baseline eTariff Filing: Application for Market-Based Rate Authority to be effective 6/26/2020.

Filed Date: 6/15/20.

Accession Number: 20200615-5266.

Comments Due: 5 p.m. ET 7/6/20.

Docket Numbers: ER20-2061-000.

Applicants: Public Service Electric and Gas Company.

Description: Petition for Waiver of Tariff Revisions, et al of Public Service Electric and Gas Company.

Filed Date: 6/15/20.

Accession Number: 20200615-5355.

Comments Due: 5 p.m. ET 6/25/20.

Docket Numbers: ER20-2062-000,

Applicants: Midcontinent Independent System Operator, Inc.

Description: § 205(d) Rate Filing: 2020-06-16_SA 3041 Consumers Energy-METC 1st Rev GIA (G934) to be effective 6/2/2020.

Filed Date: 6/16/20,

Accession Number: 20200616-5040,

Comments Due: 5 p.m. ET 7/7/20.

Docket Numbers: ER20-2063-000.

Applicants: Trafigura Trading LLC.

Description: Baseline eTariff Filing: Baseline New to be effective 6/17/2020.

Filed Date: 6/16/20.

Accession Number: 20200616-5098.

Comments Due: 5 p.m. ET 7/7/20.

Docket Numbers: ER20-2064-000.

Applicants: High Majestic Wind I, LLC.

Description: Baseline eTariff Filing: High Majestic Wind I, LLC Appplication for MBR Authority to be effective 8/15/2020.

Filed Date: 6/16/20.

Accession Number: 20200616-5105.

Comments Due: 5 p.m. ET 7/7/20.

Docket Numbers: ER20-2065-000.

Applicants: Antelope Expansion 3A, LLC.

Description: Baseline eTariff Filing: Antelope Expansion 3A, LLC MBR Tariff to be effective 6/17/2020.

Filed Date: 6/16/20.

Accession Number: 20200616-5107.

Comments Due: 5 p.m. ET 7/7/20.

Docket Numbers: ER20-2066-000.

Applicants: Antelope Expansion 3B, LLC.

Description: Baseline eTariff Filing: Antelope Expansion 3B, LLC MBR Tariff to be effective 6/17/2020.

Filed Date: 6/16/20.

Accession Number: 20200616-5108.

Comments Due: 5 p.m. ET 7/7/20.

Docket Numbers: ER20-2067-000.

Applicants: AEP Texas Inc.

Description: § 205(d) Rate Filing: AEPTX-Brightside Solar Interconnection Agreement to be effective 6/11/2020.

Filed Date: 6/16/20.

Accession Number: 20200616-5117.

Comments Due: 5 p.m. ET 7/7/20.

Docket Numbers: ER20-2068-000.

Applicants: Renewable Energy Asset Management Group, LLC

Description: Tariff Cancellation: Notice of Cancellation of Market-Based Rate Tariff to be effective 6/30/2020.

Filed Date: 6/16/20.

Accession Number: 20200616-5156.

Comments Due: 5 p.m. ET 7/7/20.

Docket Numbers: ER20-2069-000.

Applicants: Wheatridge Wind Energy, LLC.

Description: Baseline eTariff Filing: Wheatridge Wind Energy, LLC Application for MBR Authority to be effective 8/16/2020.

Filed Date: 6/16/20.

Accession Number: 20200616-5159.

Comments Due: 5 p.m. ET 7/7/20.

Docket Numbers: ER20-2070-000.

Applicants: Wheatridge Wind II, LLC.

Description: Baseline eTariff Filing: Wheatridge Wind II, LLC Application for MBR Authority to be effective 8/16/2020.

Filed Date: 6/16/20.

Accession Number: 20200616-5161.

Comments Due: 5 p.m. ET 7/7/20.

Take notice that the Commission received the following electric securities filings:

Docket Numbers: ES20-44-000.

Applicants: Monongahela Power Company.

Description: Application Under Section 204 of the Federal Power Act for Authorization to Issue Securities of Monongahela Power Company.

Filed Date: 6/16/20.

Accession Number: 20200616-5109.

Comments Due: 5 p.m. ET 7/7/20.

Take notice that the Commission received the following electric reliability filings:

Docket Numbers: RR20-4-000.

Applicants: North American Electric Reliability Corporation.

Description: Petition of the North American Electric Reliability Corporation for Approval of Amended Compliance and Certification Committee Charter.

Filed Date: 6/12/20.

Accession Number: 20200612-5273.

Comments Due: 5 p.m. ET 7/6/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 16, 2020.
Nathaniel J. Davis, Sr.,
Deputy Secretary.

[FR Doc. 2020-13354 Filed 6-19-20; 8:45 am]

BILLING CODE 6717-01-P